CHEMICAL SAFETY AND HAZARD INVESTIGATION BOARD

Sunshine Act Meetings; Correction

AGENCY: Chemical Safety and Hazard Investigation Board.

ACTION: Notice; correction.

SUMMARY: The Chemical Safety and Hazard Investigation Board (CSB) published a document in the Federal Register of July 28, 2023, concerning dates for CSB's public meetings for FY2024. The document contained an incorrect date.

STATUS: Open to the public.

FOR FURTHER INFORMATION CONTACT: Hillary Cohen, Communications Manager, at public@csb.gov or (202) 446-8094. Further information about these public meetings can be found on the CSB website at: www.csb.gov.

SUPPLEMENTARY INFORMATION:

Correction

In the Federal Register of July 28, 2023, in FR Doc. 2023-16148, on page 48788, in the second column, correct the “Matters to be Considered” Caption to read:

MATTERS TO BE CONSIDERED: The Chemical Safety and Hazard Investigation Board (CSB) will convene public meetings on October 26, 2023; January 25, 2024; April 25, 2024; and, July 25, 2024, at 2 p.m. ET. These meetings serve to fulfill the CSB's requirement to hold a minimum of four public meetings for Fiscal Year 2024 pursuant to 40 CFR 1600.5(c). The Board will review the CSB's progress in meeting its mission and as appropriate highlight safety products newly released through investigations and safety recommendations.

Dated: August 7, 2023.
Tamara Qureshi,
Assistant General Counsel, Chemical Safety and Hazard Investigation Board.

[FR Doc. 2023-17171 Filed 8-7-23; 4:15 pm]

BILLING CODE 6350-01-P